DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Trademark Petitions.

Form Number(s): None.

Agency Approval Number: 0651-0061.

Type of Request: Revision of a currently approved collection.

Burden: 1,689 hours annually.

Number of Respondents: 2,135 responses per year.

Avg. Hours per Response: The USPTO estimates that it will take the public approximately 30 minutes (0.50 hours) to one hour to complete the collections of information described in this submission, depending on the nature of the information. This includes time to gather the necessary information, prepare the documents, and submit the information to the USPTO.

Needs and Uses: The information is used by the public for a variety of private business purposes related to establishing and enforcing trademark rights.

Information relating to the registration of a trademark is made publicly available by the USPTO. The release of information in a letter of protest is controlled and may be available upon request only.

Affected Public: Individuals or households, businesses or other for-profits.

Frequency: On occasion.

Respondent's Obligation: Voluntary.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0061 copy request” in the subject line of the message.

• Mail: Susan K. Fawcett, Records Officer, Office of the Chief Information Officer, United States Patent and Trademark Office, P.O. Box 1450, Alexandria, VA 22313-1450.

Written comments and recommendations for the proposed information collection should be sent on or before August 1, 2012 to Nicholas A. Fraser, OMB Desk Officer, via email to Nicholas_A._Fraser@omb.eop.gov, or by fax to 202-395-5167, marked to the attention of Nicholas A. Fraser.

Dated: June 27, 2012.
Susan K. Fawcett,
Records Officer, USPTO, Office of the Chief Information Officer.

[FR Doc. 2012-16091 Filed 6-29-12; 8:45 am]

BILLING CODE 3510-16-P